DEPARTMENT OF AGRICULTURE

Animal and Plant Health Inspection Service

[Docket No. APHIS-2013-0009]

Notice of Affirmation; New and Revised Treatments for Various Plant Commodities

AGENCY: Animal and Plant Health Inspection Service, USDA.

ACTION: Notice.

SUMMARY: We are affirming our earlier determination that it was necessary to immediately add to the Plant Protection and Quarantine Treatment Manual treatment schedules for various plant commodities. In a previous notice, we made available to the public for review and comment treatment evaluation documents that described the new treatment and revised schedules and explained why we have determined that they are effective at neutralizing certain target pests.

DATES: Effective [Insert date of publication in the Federal Register], we are affirming the addition to the Plant Protection and Quarantine Treatment Manual of the treatments described in the notice published at 79 FR 17496-17497 on March 28, 2014.

FOR FURTHER INFORMATION CONTACT: Dr. Inder P.S. Gadh, Senior Risk Manager—Treatments, PPQ, APHIS, 4700 River Road Unit 133, Riverdale, MD 20737-1231; (301) 851-2018.

SUPPLEMENTARY INFORMATION: The regulations in 7 CFR chapter III are intended, among other things, to prevent the introduction or dissemination of plant pests and noxious weeds into or within the United States. Under the regulations, certain plants, fruits, vegetables, and other articles must be treated before they may be moved into the United States or interstate. The phytosanitary treatments regulations contained in 7 CFR part 305 (referred to below as the regulations) set out standards for treatments required in parts 301, 318, and 319 of 7 CFR chapter III for fruits, vegetables, and other articles.

In § 305.2, paragraph (b) states that approved treatment schedules are set out in the Plant Protection and Quarantine (PPQ) Treatment Manual.¹ Section 305.3 sets out the processes for adding, revising, or removing treatment schedules in the PPQ Treatment Manual. In that section, paragraph (b) sets out the process for adding, revising, or removing treatment schedules when there is an immediate need to make a change. The circumstances in which an immediate need exists are described in § 305.3(b)(1). They are:

¹ The PPQ Treatment Manual is available at http://www.aphis.usda.gov/import_export/plants/manuals/index.shtml or by contacting the Animal and Plant Health Inspection Service, Plant Protection and Quarantine, Manuals Unit, 92 Thomas Johnson Drive, Suite 200, Frederick, MD 21702.

• PPQ has determined that an approved treatment schedule is ineffective at neutralizing the targeted plant pest(s).

• PPQ has determined that, in order to neutralize the targeted plant pest(s), the treatment schedule must be administered using a different process than was previously used.

• PPQ has determined that a new treatment schedule is effective, based on efficacy data, and that ongoing trade in a commodity or commodities may be adversely impacted unless the new treatment schedule is approved for use.

• The use of a treatment schedule is no longer authorized by the U.S. Environmental Protection Agency or by any other Federal entity.

In accordance with § 305.3(a)(1), we published a notice ² in the Federal Register on March 28, 2014 (79 FR 17496-17497, Docket No. APHIS-2013-0009), announcing our determination that several additions to the PPQ Treatment Manual were necessary to mitigate the risk from various plant pests, based on evidence presented in treatment evaluation documents (TEDs) we made available with the notice. We also determined that the ongoing trade of commodities would be adversely impacted unless the new and revised treatment schedules were approved for use. The treatments were added to the PPQ Treatment Manual, but subject to change or removal based on public comment.

² To view the notice, TEDs, and comment we received, go to http://www.regulations.gov/#!docketDetail;D=APHIS-2013-0009.

We solicited comments on the notice for 60 days ending on May 27, 2014. We received one comment by that date, from an importers association representative who raised concerns about the revised treatment schedule for asparagus.

Specifically, the commenter stated that there have been no pests detected during post-fumigation inspections to justify the revision of the fumigation process from 2 hours to 2.5 hours. Furthermore, the commenter stated that the additional 30 minutes of fumigation would have a negative impact on the quality of the asparagus. The commenter suggested that Animal and Plant Health Inspection Service (APHIS) and Peru collaborate to develop a systems approach to mitigate the plant pest risks, rather than use the prescribed fumigation treatment.

As noted in the TED, in 2007, live Copitarsia spp. larvae were detected on Peruvian asparagus during a post-fumigation inspection. As an interim measure to ensure trade would continue uninterrupted, PPQ increased the treatment duration by 30 minutes for all temperature ranges and monitored its effectiveness against all stages of the pest. Since the revision was made there have been no interceptions of Copitarsia spp. larvae on asparagus imported into the United States from Peru.

We understand the commenters' concern regarding the negative effects the fumigation process has on the quality of the vegetables. We acknowledge that there is a potential risk of negative impacts on the quality or shelf life of commodities treated with fumigation and seek to minimize those efforts to the extent possible, but note that our primary concern must be to prevent the introduction of plant pests into the United States. We will, however, add a statement to the treatment T101-b-1 regarding the potential reduction in the shelf life of the treated asparagus.

We welcome and encourage opportunities to collaborate with our stakeholders and trading partners to further mitigate the risks associated with the importation of commodities. If we receive scientific information that supports the development of a systems approach, we would consider the information and make appropriate recommendations based on that information.

Therefore, in accordance with our regulations in § 305.3(b)(3), we are affirming our addition of the new and revised treatment schedules for use for the various plant commodities to the PPQ Treatment Manual.

Authority: 7 U.S.C. 7701-7772 and 7781-7786; 21 U.S.C. 136 and 136a; 7 CFR 2.22, 2.80, and 371.3.

Done in Washington, DC, this 15th day of July 2015.
Kevin Shea,
Administrator, Animal and Plant Health Inspection Service.

[FR Doc. 2015-17840 Filed 7-20-15; 8:45 am]

BILLING CODE 3410-34-P